DEPARTMENT OF EDUCATION

[CFDA No.: 84.133A]

Disability and Rehabilitation Research Program

AGENCY: Office of Special Education and Rehabilitative Services, Department of Education.

ACTION: Notice of intent to fund down the grant slate for the Disability and Rehabilitation Research Projects (DRRP) program for Traumatic Brain Injury Model Systems (TBIMS).

SUMMARY: The Secretary intends to use the grant slate developed for the TBIMS grant competition in fiscal year (FY) 2007 to make new grant awards for TBIMS centers in FY 2008. The Secretary takes this action because Congress requested that the Secretary fund two additional TBIMS centers in FY 2008.

FOR FURTHER INFORMATION CONTACT: Donna Nangle, U.S. Department of Education, 400 Maryland Avenue, SW., Room 6030, Potomac Center Plaza, Washington, DC 20202-2700. Telephone: (202) 245-7462 or via Internet: donna.nangle@ed.gov.

If you use a telecommunications device for the deaf (TDD), call the Federal Relay Service (FRS) at 1-800-877-8339.

Individuals with disabilities can obtain this document in an alternative format (e.g., Braille, large print, audiotape, or computer diskette) upon request to the contact person listed under FOR FURTHER INFORMATION CONTACT.

SUPPLEMENTARY INFORMATION: On February 14, 2007, we published a notice in the Federal Register (72 FR 7288) inviting applications for new awards under the TBIMS program for FY 2007. We received 23 applications for grants in response to that notice and funded 14 new grants.

The explanatory statement accompanying the Department of Education Fiscal Year 2008 Appropriations Act (Pub. L. 110-161) specifies that the Secretary reserve $8.3 million to carry out the TBIMS program and, more specifically, that in FY 2008 the Secretary fund two additional applicants from the list of unfunded applications for the last TBIMS grant competition. Consistent with the Congressional intent expressed in the explanatory statement, the Secretary intends to fund two additional TBIMS centers in FY 2008 by funding down the grant slate developed for the TBIMS program in FY 2007, which includes several high-quality applications that have not yet been funded.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: May 15, 2008.
William W. Knudsen,
Deputy Assistant Secretary for Special Education and Rehabilitative Services.

[FR Doc. E8-11269 Filed 5-19-08; 8:45 am]

BILLING CODE 4000-01-P